DEPARTMENT OF JUSTICE

Antitrust Division

Notice Pursuant to the National Cooperative Research and Production Act of 1993—DVD Copy Control Association

Notice is hereby given that, on September 10, 2008, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, Futarque A/S. Aalborg, DENMARK; Kat Digital Corp., Taipei, TAIWAN; Mattel, Inc., El Segundo, CA; and Skydigital Inc., Seoul, REPUBLIC OF KOREA have been added as parties to this venture.

Also, Ascent Media Group, LLC, Santa Monica, CA; Coretek Limited, Kowloon, HONG KONG-CHINA; Estorage Technology Co., Ltd., Taipei, TAIWAN; Exatel Visual Systems, Ltd., Rehovot, ISRAEL; Hansong (Nanjing) Electronic Ltd., Nanjing, PEOPLE'S REPUBLIC OF CHINA; Jiangsu Hongtu High Technology Co., Ltd., Nanjing, PEOPLE'S REPUBLIC OF CHINA; Link Concept Technology Ltd., Kowloon, HONG KONG-CHINA; New Medium, London, UNITED KINGDOM; Premium Disc Corp., Mississauga, Ontario, CANADA; TOMEN Electronics Limited, Kowloon, HONG KONG-CHINA; Universal Pacific Co., Ltd., Kowloon, HONG KONG-CHINA; and Via Technologies, Inc., Taipei, TAIWAN have withdrawn as parties to this venture.

No other changes have been made in either the membership or planned activity of the group research project. Membership in this group research project remains open, and DVD CCA intends to file additional written notifications disclosing all changes in membership.

On April 11, 2001, DVD CCA filed its original notification pursuant to Section 6(a) of the Act. The Department of Justice published a notice in the Federal Register pursuant to Section 6(b) of the Act on August 3, 2001 (66 FR 40727).

The last notification was filed with the Department on June 12, 2008. A notice was published in the Federal Register pursuant to Section 6(b) of the Act on July 21, 2008 (73 FR 42366)

Patricia A. Brink,
Deputy Director of Operations Antitrust Division.

[FR Doc. E8-24804 Filed 10-20-08; 8:45 am]

BILLING CODE 4410-11-M